DEPARTMENT OF LABOR

Employment and Training Administration

[TA-W-62,629; TA-W-62,629A]

Giant Merchandising, Inc., Including On-Site Leased Workers From Priority Temporary Services, Partners In Diversity and Apple One Commerce, CA; Including An Employee in Support of Giant Merchandising, Inc., Commerce, CA Operating Out of Rochester, MN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on January 28, 2008, applicable to workers of Giant Merchandising, Inc., including on-site leased workers from Priority Temporary Services, Partners In Diversity and Apple One, Commerce, California. The notice was published in the Federal Register on February 13, 2008 (73 FR 8369).

At the request of the State agency, the Department reviewed the certification for workers of the subject firm.

New information shows that a worker separation (Mr. Halton Hamer) has occurred involving an employee in support of and under the control of the Commerce, California facility of Giant Merchandising, Inc. operating out of Rochester, Minnesota.

Based on these findings, the Department is amending this certification to include an employee in support of the Commerce, California facility operating out of Rochester, Minnesota.

The intent of the Department's certification is to include all workers of Giant Merchandising, Inc., Commerce, California who were adversely affected by a shift in production of screen printed apparel to Mexico.

The amended notice applicable to TA-W-62,629 is hereby issued as follows:

“All workers of Giant Merchandising, Inc., including on-site leased workers from Priority Temporary Services, Partners In Diversity, and Apple One, Commerce, California (TA-W-62,629), including an employee in support of Giant Merchandising, Inc., Commerce, California operating out of Rochester, Minnesota (TA-W-62,629A), who became totally or partially separated from employment on or after December 10, 2006, through January 28, 2010, are eligible to apply for adjustment assistance under Section 223 of the Trade Act of 1974, and are also eligible to apply for alternative trade adjustment assistance under Section 246 of the Trade Act of 1974.”

Signed at Washington, DC, this 28th day of April 2008.
Richard Church,
Certifying Officer, Division of Trade Adjustment Assistance.

[FR Doc. E8-10029 Filed 5-6-08; 8:45 am]

BILLING CODE 4510-FN-P